DEPARTMENT OF COMMERCE

National Oceanic and Atmospheric Administration

[RTID 0648-XR076]

Marine Mammals; File No. 23577

AGENCY: National Marine Fisheries Service (NMFS), National Oceanic and Atmospheric Administration (NOAA), Commerce.

ACTION: Notice; receipt of application.

SUMMARY: Notice is hereby given that the BBC Studios Ltd., Natural History Unit Productions, Broadcasting House, Whiteladies Road, Bristol, BS8 2LR, UK, (Responsible Party: Rowan Crawford), has applied in due form for a permit to conduct commercial or educational photography of humpback whales (Megaptera novaeangliae).

DATES: Written, telefaxed, or email comments must be received on or before January 22, 2020.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film humpback whales in Hawaii to obtain footage for an episode of a wildlife television series focusing on female animal behavior. Up to 315 humpback whales will be targeted for filming using a vessel, underwater divers, and an unmanned aircraft system (UAS). Activities would include behavioral observations, photography/videography, UAS operation, and passive acoustic recordings. Filmmakers may incidentally harass up to 30 short-beaked common dolphins (Delphinus delphis), 60 bottlenose dolphins (Tursiops truncatus), 342 spinner dolphins (Stenella longirostris), and 324 short-finned pilot whales (Globicephala macrorhynchus) during filming. The permit would expire on March 31, 2020.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 17, 2019.
Julia Marie Harrison,
Chief, Permits and Conservation Division, Office of Protected Resources, National Marine Fisheries Service.

[FR Doc. 2019-27571 Filed 12-20-19; 8:45 am]

BILLING CODE 3510-22-P